DEPARTMENT OF ENERGY

Federal Energy Regulatory Commission

[Project No. 14985-000]

Cherokee Rivers Company, LLC; Notice of Preliminary Permit Application Accepted for Filing and Soliciting Comments, Motions To Intervene, and Competing Applications

On April 3, 2019, Cherokee Rivers Company, LLC, filed an application for a preliminary permit, pursuant to section 4(f) of the Federal Power Act (FPA), proposing to study the feasibility of the Lower Coosawattee Hydroelectric Project (Lower Coosawattee Project or project) to be located at the U.S. Army Corps of Engineers' (Corps) Carter's Reregulation Dam on the Coosawattee River, in Murray County, Georgia. The sole purpose of a preliminary permit, if issued, is to grant the permit holder priority to file a license application during the permit term. A preliminary permit does not authorize the permit holder to perform any land-disturbing activities or otherwise enter upon lands or waters owned by others without the owners' express permission.

The proposed project would consist of the following: (1) A 50-foot-long, 8-foot-wide intake structure with trash racks and stop logs, on the left end of the dam; (2) four 8-foot-diameter, approximately 320-foot-long penstocks running through the dam; (3) the four penstocks combining into two 15-foot-high, 23.6-foot-wide, 100-foot-long box culvert conduits; (4) a 52-foot-long, 25-foot-wide, 47-foot-high powerhouse containing two generating units, with a combined capacity of 4.5 megawatts; and (5) a 120-foot-long transmission line. The proposed project would have an estimated average annual generation of 16,500 megawatt-hours, and operate run-of-release utilizing surplus water from the Carter's Reregulation Dam, as directed by the Corps.

Applicant Contact: Mr. Robert Davis, 390 Timber Laurel Lane, Lawrenceville, GA 30243; phone: (470) 331-8238.

FERC Contact: Michael Spencer, (202) 502-6093, michael.spencer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14985-000.

More information about this project, including a copy of the application, can be viewed or printed on the “eLibrary” link of Commission's website at http://www.ferc.gov/docs-filing/elibrary.asp. Enter the docket number (P-14985) in the docket number field to access the document. For assistance, contact FERC Online Support.

Dated: June 24, 2019.
Kimberly D. Bose,
Secretary.

[FR Doc. 2019-13826 Filed 6-27-19; 8:45 am]

BILLING CODE 6717-01-P